SMALL BUSINESS ADMINISTRATION

[Disaster Declaration #21438 and #21439; MISSISSIPPI Disaster Number MS-20019]

Presidential Declaration Amendment of a Major Disaster for Public Assistance Only for the State of Mississippi and the Mississippi Band of Choctaw Indians

AGENCY: U.S. Small Business Administration.

ACTION: Amendment 1.

SUMMARY: This is an amendment of the Presidential declaration of a major disaster for Public Assistance Only for the State of Mississippi and the Mississippi Band of Choctaw Indians (FEMA-4899-DR), dated February 6, 2026.

Incident: Severe Winter Storm.

DATES: Issued on February 13, 2026.

Incident Period: January 23, 2026 through January 27, 2026.

Physical Loan Application Deadline Date: April 7, 2026.

Economic Injury (EIDL) Loan Application Deadline Date: November 6, 2026.

ADDRESSES: Visit the MySBA Loan Portal at https://lending.sba.gov to apply for a disaster assistance loan.

FOR FURTHER INFORMATION CONTACT: Jennifer Talarico, Office of Disaster Recovery and Resilience, U.S. Small Business Administration, 409 3rd Street SW, Suite 6050, Washington, DC 20416, (202) 205-6734.

SUPPLEMENTARY INFORMATION: The notice of the President's major disaster declaration for Private Non-Profit organizations in the State of MISSISSIPPI and the MISSISSIPPI BAND OF CHOCTAW INDIANS, dated February 6, 2026, is hereby amended to include the following areas as adversely affected by the disaster.

Primary Counties: Adams, Attala, Benton, Claiborne, Jefferson, Lafayette, Lee, Marshall, Panola, Pontotoc, Prentiss, Quitman, Tallahatchie, Tate, Tippah, Tishomingo, Union, Yalobusha.

All other information in the original declaration remains unchanged.

(Catalog of Federal Domestic Assistance Number 59008)

(Authority: 13 CFR 123.3(b).)

James Stallings,
Associate Administrator, Office of Disaster Recovery & Resilience.

[FR Doc. 2026-03452 Filed 2-20-26; 8:45 am]

BILLING CODE 8026-09-P